DEPARTMENT OF THE INTERIOR

Bureau of Land Management

[Docket No. 4310-DN]

Notice of Intent To Prepare a Supplemental Environmental Impact Statement to the Final Environmental Impact Statement, for the Zortman and Landusky Mines Reclamation Plan Modifications and Mine Life Extensions

AGENCY: Bureau of Land Management, Interior

ACTION: Notice.

SUMMARY: In accordance with Section 203(b) of the Federal Land Policy and Management Act of 1976 and Section 102(C) of the National Environmental Policy Act of 1969, the Bureau of Land Management will prepare a supplement to the Final Environmental Impact Statement (EIS) on the Zortman and Landusky Mines Reclamation Plan Modifications to consider final reclamation and closure of the Zortman and Landusky mines in Northcentral Montana. The Supplemental EIS will address additional reclamation alternatives that would constitute a substantial change in the proposed action presented in the Final EIS.

DATES: Comments and recommendations on this notice should be received by September 30, 2000.

ADDRESSES: Written comments should be addressed to Scott Haight, Team Lead, Bureau of Land Management, Lewistown Field Office, P.O. Box 1160, Lewistown, Montana 59457-1160.

FOR FURTHER INFORMATION CONTACT: Bruce Reed, Field Manager, Bureau of Land Management, Malta Field Office, 501 S. 2nd St. E., Malta, MT 59538-0047 (406-654-1240); or Scott Haight, Lewistown Field Office, P.O. Box 1160, Lewistown, Montana 59457-1160 (406-538-1930).

SUPPLEMENTARY INFORMATION: In April 1996, the BLM and Montana Department of Environmental Quality (DEQ) issued the Final EIS for the Zortman and Landusky Mines Reclamation Plan Modifications and Mine Life Extensions. The purpose of the EIS was to analyze the need for modified reclamation plans in response to acid rock drainage conditions at the mines and to consider the operator's proposal for additional mining. In October 1996, the BLM and DEQ issued a Record of Decision (ROD) for the approval of expanded mining and modified reclamation plans. Subsequent to the issuance of the ROD, the operator decided not to proceed with the mine expansion and filed for bankruptcy. In June 1998, BLM and DEQ issued a second ROD that selected an alternative from the Final EIS for reclamation without mine expansion, using agency-developed mitigating measures. In November 1998, the Interior Board of Land Appeals (IBLA) vacated the BLM's June 1998, ROD and ordered additional consultation with the Fort Belknap Indian Community Council. As a result of the bankruptcy proceeding the DEQ reached an agreement with the operator's surety companies to fund reclamation up to the limits of the surety bond amount. Subsequent evaluations of reclamation costs have identified a shortfall in funding to implement the agency preferred reclamation plan in the Final EIS. In addition, consultation between Fort Belknap, BLM and DEQ have identified additional reclamation alternatives which should be considered for implementation because they are either more cost effective, more protective of the environment, or both. BLM and DEQ have determined that selection of one of these additional reclamation alternatives may constitute a substantial change in the proposed action and that a Supplemental EIS is should be prepared. The Supplemental EIS will address alternative reclamation plans for the Zortman and Landusky mines that have been developed through the consultation process. The Supplemental EIS will be the basis for a new ROD to select a final reclamation plan for the Zortman and Landusky mines. Interim reclamation will continue at the mines during preparation of the Supplemental EIS in order to prevent unnecessary or undue degradation. The BLM and DEQ will be co-lead agencies for the preparation of the Supplemental EIS. The agencies anticipate holding informational meetings in September of 2000 and requesting public comments on the draft supplemental EIS in the spring of 2001.

Dated: July 24, 2000.
Bruce W. Reed,
Field Office Manager.

[FR Doc. 00-19658 Filed 8-2-00; 8:45 am]

BILLING CODE 4310-84-P